DEPARTMENT OF DEFENSE

Department of the Air Force

Revision to Military Freight Traffic Unified Rules Publication (MFTURP) NO. 1, Section F, Air Transportation Service Provider Rules and Domestic Air Tender Freight Carrier Registration Program (FCRP)

AGENCY: Department of the Air Force, Department of Defense.

SUMMARY: Air Mobility Command (AMC) is providing notice that it intends to change Domestic Air Tender policy within the MFTURP NO. 1 to restrict registration in the FCRP for Domestic Air Tenders to Civil Reserve Air Fleet (CRAF) Transportation Service Providers (TSP) only. CRAF TSPs may, if they choose to, act through a freight forwarder, logistics company, or broker. This change only affects domestic air tender TSPs such as airlines, logistics companies, freight forwarders, and brokers. The purpose of the new policy is to strengthen the CRAF program in support of the national defense airlift objectives to ensure military and civil airlift resources are capable of meeting the defense mobilization and deployment requirements supporting U.S. Defense & Foreign Policy.

DATES: Comments must be received by HQ AMC/A4TC NLT (30) days after the post date.

ADDRESSES: Submit comments to Air Mobility Command, Directorate of Logistics, Cargo & Traffic Management Branch (A4TC), Commercial Services Team, 402 Scott Drive, Unit 2A2, Scott AFB, IL 62225-5308. Electronic comments or requests for additional information may be sent by email to: org.amca4-67@us.af.mil.

FOR FURTHER INFORMATION CONTACT: AMC/A4TC, Commercial Services Team, (618) 229-4684, THOMAS J. TRUMBULL II, Colonel, USAF, Chief Air Transportation Division Directorate of Logistics.

SUPPLEMENTARY INFORMATION:

Reference: 10 USC 2304(c)(3), Industrial Mobilization, exception to full and open competition is essential to maintain adequate airlift services in case of a national emergency requiring activation of the Civil Reserve Air Fleet (CRAF). The use of the Industrial Mobilization exception to limit competition to CRAF carriers effectively supports the implementation of the National Airlift Policy by incentivizing carriers to keep vital commercial airlift resources available as a mobilization base in the event of a national or military emergency. The CRAF participation eligibility requirement, which will be included in the domestic air tender program, supports the development and maintenance of a robust CRAF program.

Background: CRAF is a voluntary program through which the nation's airlines provide stand-by commitments to support mobilization as a supplement to DOD organic airlift capacity. CRAF participants provide civilian airlift assets needed to support military operations and mobilization requirements enabling the DOD to meet peacetime requirements, surge needs, and mobilization requirements for major crises.

Miscellaneous: The SDDC Docketing System can be accessed at http://docketing.sddc.army.mil.

Henry Williams, Civ,
Acting Air Force Federal Register Liaison Officer.

[FR Doc. 2014-20877 Filed 9-2-14; 8:45 am]

BILLING CODE 5001-10-P